DEPARTMENT OF THE INTERIOR

Bureau of Land Management

[LLNML0000 L16100000.DR0000 15XL1109AF]

Notice of Availability of the Record of Decision for the Prehistoric Trackways National Monument Resource Management Plan

AGENCY: Bureau of Land Management, Interior.

ACTION: Notice of availability.

SUMMARY: The Bureau of Land Management (BLM) announces the availability of the Record of Decision (ROD) for the Approved Resource Management Plan (RMP) for the Prehistoric Trackways National Monument (Monument) located in southern New Mexico. The New Mexico Acting State Director signed the ROD on November 5, 2015, which constitutes the final decision of the BLM and makes the Approved RMP effective immediately.

ADDRESSES: Copies of the ROD/Approved RMP are available upon request from the District Manager, Las Cruces District Office, Bureau of Land Management, 1800 Marquess Street, Las Cruces, NM 88005 or via http://www.blm.gov/nm/trackwaysrmp. Copies of the ROD/Approved RMP are available for public inspection at the Las Cruces District Office.

FOR FURTHER INFORMATION CONTACT: Jennifer Montoya, Planning and Environmental Specialist, telephone 575-525-4316; address 1800 Marquess Street, Las Cruces, NM 88005; email jamontoy@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Approved RMP provides a comprehensive management plan for the long-term protection and management of the Monument, totaling 5,255 acres of surface estate in southern New Mexico. The RMP prescribes appropriate uses and management of the Monument, consistent with the provisions of its designating legislation (Omnibus Public Land Management Act of 2009), and replaces the 1993 Mimbres RMP within the Monument boundaries. Major issues associated with the Monument include Paleontological Research and Protection, Interpretation and Education, Trails and Travel Management, Recreation and Visitor Services, Wildlife, Livestock, Vegetation, wilderness characteristics, recreational target shooting closures, Visual Resources, and Socioeconomics.

The Approved RMP is very similar to the one set forth in the Preferred Alternative for the Prehistoric Trackways National Monument Proposed RMP/Final Environmental (EIS) published in December 2014. Modifications to the proposed plan corrected errors that were noted during review of the Proposed RMP/Final EIS and provide further clarification for decisions in travel management planning and visitor services.

The RMP process began with a Notice of Intent (NOI) published in the Federal Register on January 5, 2010. This announced a 30-day public comment period. During that time, a public meeting was held in Las Cruces in order to introduce the planning process to the public and solicit comments. On September 22, 2010, a public workshop was held to re-engage the public for the RMP and to verify that the BLM had a sufficient range of alternatives. Availability of the Draft RMP/EIS was published July 20, 2012, in the Federal Register (77 FR 42758) to announce a 90-day public review and comment period of the draft document. During this period, the BLM held one public open-house meeting in Las Cruces for the purpose of assisting the public in their review and to solicit their comments. The Draft RMP/EIS was sent to multiple Federal, tribal, State, and local government agencies and interested parties and was made available for viewing at the Las Cruces District Office, the New Mexico State Office, and on the internet. During the comment period, the Las Cruces District Office received about 45 comment letters, emails, or comment forms. Each submission was carefully reviewed to identify substantive comments in accordance with regulations on the implementation of National Environmental Policy Act (40 CFR 1503.4). Comments on the Draft RMP/EIS received from the public and internal BLM reviews were considered and incorporated as appropriate into the Proposed RMP/Final EIS. Public comments resulted in the addition of data and clarifying text, however, they did not significantly change the proposed land use plan decisions. Availabliity of the Proposed RMP/Final EIS was published on December 24, 2014, in the Federal Register (79 FR 78104), initiating a protest period and Governor's Consistency Review Period. Five protests were recived during the protest period, and all protests have been resolved. Minor editorial modifications were made to the RMP based on questions raised during the protest period. No inconsistencies with State and local plans, policies, or programs were identified during the Governor's Consistency Review process.

Certain decisions in the Approved RMP are implementation decisions and are appealable to the Interior Board of Land Appeals. These implementation level decisions include the approval of the Comprehensive Trails and Travel Management Plan. The decisions are included within Chapter 2 of the Approved RMP and Appendix C of the Proposed RMP/Final EIS, and implementation decisions are denoted with asterisks where appropriate. Any party adversely affected by the proposed route designations may appeal within 30 days of publication of this Notice of Availability pursuant to 43 CFR, part 4, subpart E. The appeal should state the specific route(s), as identified in Appendix C of the Proposed RMP/Final EIS, on which the decision is being appealed. The appeal must be filed with the Las Cruces District Manager at the above listed address. Please consult the appropriate regulations (43 CFR, part 4, subpart E) for further appeal requirements.

Authority: 40 CFR 1506.6

Amy Lueders,
State Director.

[FR Doc. 2015-32038 Filed 12-18-15; 8:45 am]

BILLING CODE 4310-FB-P